DEPARTMENT OF HEALTH AND HUMAN SERVICES

Centers for Disease Control and Prevention

[60Day-05-0617)

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Willingness to Pay—Extension—Prevention Effectiveness Unit, Office of Workforce and Career Development, Centers for Disease Control and Prevention (CDC). The mission of the Prevention Effectiveness Unit is to provide information and training to build internal and external capacity in economic and decision sciences.

The project is currently underway as a pilot study. Upon completion of the pilot the project will be assessed to determine if the full survey will be completed.

This project will use qualitative and quantitative research to (a) develop and test informational approaches, (educational materials or product labeling), (b) educate consumers about food safety issues, (c) develop and test survey instruments; and (d) test experimental protocols to be used in the main quantitative data collection. The project will also provide a nationally-representative estimate of consumer willingness to pay for (a) publicly-provided reductions in the probability of contracting food-borne illnesses; (b) reductions in severity of symptoms associated with food-borne illnesses, and (c) materials that facilitate private, defensive precautions against food-borne illness during home food preparation (e.g., meat thermometers, antibacterial soaps and cutting boards). Furthermore, the project will estimate the effect of education programs and product labeling on consumer willingness to pay for the reductions; also to compare the empirical estimates of the above mentioned consumer willingness to pay derived from a conjoint analysis instrument and a simulated marketplace experiment.

Public awareness and stated concern regarding food-borne illnesses have increased rapidly over the past decade. The general public, while seemingly well-informed and concerned about some relevant food safety issues, appear unknowledgeable or ill-informed about emerging issues. The Food Safety Survey data suggest that information provided to consumers at the point of purchase may be a helpful means of educating the public about food safety. Analyses of consumer purchase data indicate that health-related information provided at the point of purchase can make significant long-term changes in purchasing behavior.

While providing health-related information about food has been the focus of major policy initiatives in the last few years, little empirical economic research has attempted to understand the market and welfare effects of different health information policies. In addition, previous research does not address the distribution of effects across different consumers. Policy makers and food manufacturers cannot provide labels that satisfy everyone's information desires while simultaneously catering to consumers' cognitive and time constraints. As a result, policy makers need to understand how different sectors of the consumer population will be affected, particularly those members of the population who face relatively high food safety risks.

The lack of information hinders policy makers from making informed decisions on the proper allocation of resources in this area since the benefits of reducing the risk of illness are not well known. Not having the information readily available makes cost-effectiveness and cost-benefit analyses difficult to do as well as resource-intensive. This data collection effort will reduce this burden by making data available to researchers for use in program and policy evaluation. If this data collection effort did not take place, agencies would either have to continue to piece together data when conducting economic analyses of food safety policies and regulations, or they would need to fund a large scale effort like the one being proposed. Another large scale effort would be a waste of public funds. Informing consumers about the risks and protective measures allows consumers to more accurately assess how much they would pay for reductions in this risk. More importantly, this project will inform the consumer as to what the risks are and how they can protect themselves. This is important since the consumer is the last line of defense in the campaign against food-borne illnesses.

Estimate of Annualized Burden Table
Respondents | Number of respondents | Number of responses per respondent | Average burden per response (in hours) | Total response burden hours
Survey respondents | 5000 | 1 | 30/60 | 2500
Virtual shopping respondents | 1200 | 1 | 1 | 1200
Total |  |  |  | 3700

Joan F. Karr,
Acting Reports Clearance Officer, Centers for Disease Control and Prevention.

[FR Doc. 05-6682 Filed 4-4-05; 8:45 am]

BILLING CODE 4163-18-P